DEPARTMENT OF ENERGY

Federal Energy Regulatory Commission

Combined Notice of Filings #2

Take notice that the Commission received the following electric rate filings:

Docket Numbers: ER13-1380-000; ER14-500-000.

Applicants: New York Independent System Operator, Inc.

Description: Emergency Motion of Central Hudson Gas & Electric Corporation for Expeditious Rulings or, Alternatively, for a Stay of Capacity Auctions for the NCZ in New York's Lower Hudson Valley and Motion for Shortened Response Time of Three Business Days.

Filed Date: 4/30/14.

Accession Number: 20140430-5551.

Comments Due: 5 p.m. ET 5/7/14.

Docket Numbers: ER14-1683-000.

Applicants: Midcontinent Independent System Operator, Inc.

Description: Midcontinent Independent System Operator, Inc. submits tariff filing per: 2014-05-02_SA Geronimo-ITC GIA (J281 J282) Supplement to be effective N/A.

Filed Date: 5/2/14.

Accession Number: 20140502-5177.

Comments Due: 5 p.m. ET 5/23/14.

Docket Numbers: ER14-1858-000.

Applicants: Consolidated Power Co., LLC.

Description: Consolidated Power Co., LLC FERC Tariff Filing to be effective 5/15/2014.

Filed Date: 5/2/14.

Accession Number: 20140502-5096.

Comments Due: 5 p.m. ET 5/23/14.

Docket Numbers: ER14-1859-000.

Applicants: Midcontinent Independent System Operator, Inc.

Description: 2014-05-02 Tx Developer Sector to Advisory Committee to be effective 7/2/2014.

Filed Date: 5/2/14.

Accession Number: 20140502-5111.

Comments Due: 5 p.m. ET 5/23/14.

Docket Numbers: ER14-1860-000.

Applicants: PacifiCorp.

Description: PacifiCorp submits tariff filing per 35.13(a)(2)(iii: BPA AC Intertie Agreement 10th Revised to be effective 7/2/2014.

Filed Date: 5/2/14.

Accession Number: 20140502-5143.

Comments Due: 5 p.m. ET 5/23/14.

Docket Numbers: ER14-1861-000.

Applicants: ITC Great Plains, LLC.

Description: ITC Great Plains, LLC submits tariff filing per 35.13(a)(2)(iii: Joint Ownership Agreement to be effective 7/1/2014.

Filed Date: 5/2/14.

Accession Number: 20140502-5152.

Comments Due: 5 p.m. ET 5/23/14.

Docket Numbers: ER14-1862-000.

Applicants: Virginia Electric and Power Company.

Description: Virginia Electric and Power Company submits tariff filing per 35: Compliance Filing—VEPCO MBR Tariff Bus. Development Waiver to be effective 5/5/2014.

Filed Date: 5/2/14.

Accession Number: 20140502-5153.

Comments Due: 5 p.m. ET 5/23/14.

Docket Numbers: ER14-1863-000.

Applicants: Kiwi Energy Inc.

Description: Kiwi Energy Inc. submits tariff filing per 35.15: Notice of Cancellation to be effective 7/1/2014.

Filed Date: 5/2/14.

Accession Number: 20140502-5176.

Comments Due: 5 p.m. ET 5/23/14.

Docket Numbers: ER14-1864-000.

Applicants: Virginia Electric and Power Company.

Description: Virginia Electric and Power Company submits tariff filing per 35: Compliance Filing—VEPCO MBS Tariff Bus. Development Waiver to be effective 5/3/2014.

Filed Date: 5/2/14.

Accession Number: 20140502-5202.

Comments Due: 5 p.m. ET 5/23/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 2, 2014.
Kimberly D. Bose,
Secretary.

[FR Doc. 2014-10708 Filed 5-8-14; 8:45 am]

BILLING CODE 6717-01-P